DEPARTMENT OF DEFENSE

Department of the Air Force

[Docket ID: USAF-2010-0004]

Privacy Act of 1974; System of Records

AGENCY: Department of the Air Force, DoD.

ACTION: Notice to add a system of records.

SUMMARY: The Department of the Air Force is proposing to add a system of records to its existing inventory of records systems subject to the Privacy Act of 1974, (5 U.S.C. 552a), as amended.

DATES: The proposed action will be effective on March 8, 2010 unless comments are received that would result in a contrary determination.

ADDRESSES: You may submit comments, identified by docket number and title, by any of the following methods.

• Federal eRulemaking Portal: http://www.regulations.gov. Follow the instructions for submitting comments.

• Mail: Federal Docket Management System Office, 1160 Defense Pentagon, Room 3C843, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Ben Swilley at (703) 696-6172.

SUPPLEMENTARY INFORMATION: The Department of the Air Force systems of records notices subject to the Privacy Act of 1974, (5 U.S.C. 552a), as amended, have been published in the Federal Register and are available from the address above.

The proposed system report, as required by 5 U.S.C. 552a(r) of the Privacy Act of 1974, as amended, was submitted on January 29, 2010, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996; 61 FR 6427).

Dated: February 1, 2010.
Mitchell S. Bryman,
Alternate OSD Federal Register Liaison Officer, Department of Defense.

F065 AF FMP A

System Name:

eFinance Workspace

System Location:

Commander, 88th Communications Squadron, Wright Patterson AFB, OH 45433-5344.

Categories of individuals covered by the system:

Current Air Force military personnel (Active Duty, Reserve, Air National Guard), family members of Air Force service members and Air Force civilian employees.

Categories of records in the system:

Name, Social Security Numbers (SSN), rank/grade, service number, marital status, the number of dependents claimed for pay purposes, home and unit location data. Specific information requested for dependents are name, age, date of birth, (used for travel calculation) and residence address to determine entitlement rate for basic allowance for housing.

Authority for maintenance of the system:

10 U.S.C. 8013, Department of the Air Force; 10 U.S.C. 8032, The Air Staff, general duties; DoD Financial Management Regulation 7000.14-R, Volume 7A, Military Pay Policy and Procedures, Active Duty and Reserve Pay; The Joint Federal Travel Regulations, Volume 1, Uniformed Service Members; The Joint Travel Regulations, Volume 2, Civilian Personnel; Air Force Instruction 65-114, Travel—Policy and Procedures For Financial Services Offices and Finance Offices—Reserve Component; Air Force Manual 65-116 V2, Defense Joint Military Pay System Active Component (DJMS-AC) Unit Procedures Excluding Financial Services Office; and E.O. 9397 (SSN), as amended.

Purpose(s):

The eFinance system allows active duty members the ability to complete their Permanent Change of Station (PCS) voucher and assignment to their new duty station transactions for pay purposes without an interface with the base Financial Services Office (FSO). Additionally, it will allow military personnel to create pay affecting transactions using a digital signature and routing to the appropriate approval authority and to generate documentation and transactions associated with Temporary Duty Travel (TDY) settlement and advance claims.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b) as follows:

The DoD `Blanket Routine Uses' published at the beginning of the Air Force's compilation of systems of records notices apply to this system.

Policies and practices for storing, retrieving, accessing, retaining and disposing of records in the system:

Storage:

Electronic storage media.

Retrievability:

Individual's name, Social Security Number (SSN) and/or service number.

Safeguards:

Electronic records are maintained within secured buildings in areas accessible only to persons having official need to know, and who are properly trained and screened. In addition, the system will be a controlled system with passwords, and Common Access Card (CAC) governing access to data.

Retention and disposal:

Records are destroyed when no longer needed for reference and/or for conducting business. Records are destroyed by erasing.

System manager(s) and address:

System Program Manager (SPM), Air Force Financial Systems Operations (AFFSO), Secretary of the Air Force for Financial Management Operations (SAF/FMP), SAF/FMP Air Force Financial Systems Office, 1940 Allbrook Dr., Bldg 1, Wright Patterson Air Force Base, Ohio 45433-5344.

Notification procedure:

Individuals seeking to determine whether information about themselves is contained in this system should address written inquiries to the Director, SAF/FMP Air Force Financial Systems Office, 1940 Allbrook Dr., Bldg 1, Wright Patterson Air Force Base, Ohio 45433-5344.

For verification purposes, individuals should provide their full name, Social Security Number (SSN), record type (if known) which may assist in locating records, and their signature.

In addition, the requester must provide a notarized statement or an unsworn declaration made in accordance with 28 U.S.C. 1746, in the following format:

If executed outside the United States:

``I declare (or certify, verify, or state) under penalty of perjury under the laws of the United States of America that the foregoing is true and correct. Executed on (date). (Signature).''

If executed within the United States, its territories, possessions, or commonwealths:

``I declare (or certify, verify, or state) under penalty of perjury under the laws of the United States of America that the foregoing is true and correct. Executed on (date). (Signature).''

Record access procedures:

Individuals seeking access to information about themselves contained in this system should address requests to the Director, SAF/FMP Air Force Financial Systems Office, 1940 Allbrook Dr., Bldg 1, Wright Patterson Air Force Base, Ohio 45433-5344.

For verification purposes, individuals should provide their full name, Social Security Number (SSN), record type (if known) which may assist in locating records, and their signature.

In addition, the requester must provide a notarized statement or an unsworn declaration made in accordance with 28 U.S.C. 1746, in the following format:

If executed outside the United States:

``I declare (or certify, verify, or state) under penalty of perjury under the laws of the United States of America that the foregoing is true and correct. Executed on (date). (Signature).''

If executed within the United States, its territories, possessions, or commonwealths:

``I declare (or certify, verify, or state) under penalty of perjury under the laws of the United States of America that the foregoing is true and correct. Executed on (date). (Signature).''

Contesting record procedures:

The Air Force rules for access to records, and for contesting and appealing initial agency determinations by the individual concerned are published in Air Force Instruction 33-332, Privacy Act Program, 32 CFR Part 806b, or may be obtained from the system manager.

Record source categories:

From the individual.

Exemptions claimed for the system:

None.

[FR Doc. 2010-2444 Filed 2-4-10; 8:45 am]

BILLING CODE 5001-06-P